DEPARTMENT OF THE INTERIOR

National Park Service

[N6837; NPS-WASO-NAGPRA-NPS0041698; PPWOCRADN0-PCU00RP14.R50000]

Notice of Intended Repatriation: Museum of Art, Rhode Island School of Design, Providence, RI

AGENCY: National Park Service, Interior.

ACTION: Notice.

SUMMARY: In accordance with the Native American Graves Protection and Repatriation Act (NAGPRA), the Museum of Art, Rhode Island School of Design (“RISD Museum”, “RISD”), intends to repatriate certain cultural items that meet the definition of objects of cultural patrimony and that have a cultural affiliation with the Indian Tribes or Native Hawaiian organizations in this notice.

DATES: Repatriation of the cultural items in this notice may occur on or after February 6, 2026.

ADDRESSES: Send additional written requests for repatriation of the cultural items in this notice to Joe Leduc or María Fernanda Mancera, Museum of Art, Rhode Island School of Design, 20 North Main Street, Providence, RI 02903, email jleduc@risd.edu or mmancera@risd.edu.

SUPPLEMENTARY INFORMATION: This notice is published as part of the National Park Service's administrative responsibilities under NAGPRA. The determinations in this notice are the sole responsibility of the RISD Museum, and additional information on the determinations in this notice, including the results of consultation, can be found in the summary or related records. The National Park Service is not responsible for the determinations in this notice.

Abstract of Information Available

A total of two cultural items have been requested for repatriation. The objects of cultural patrimony are a cooking basket and a necked jar. The first one features abstract banded designs, while the second exhibits a diamond rattlesnake pattern. The cooking basket entered the RISD Museum's collection as a gift from Mrs. Gustav Radeke from Providence, RI, in 1920, and was identified as being of Yokut origin. The necked jar was a gift from Mrs. Kenneth F. Wood of Barrington, RI, and was entered into the collection in 1943. It was catalogued as Tulare. There is no known presence of potentially hazardous substances in either of the objects of cultural patrimony.

Determinations

The RISD Museum has determined that:

• The two objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Tejon Indian Tribe.

Requests for Repatriation

Additional written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 6, 2026. If competing requests for repatriation are received, the RISD Museum must determine the most appropriate requestor prior to repatriation. Requests for joint repatriation of the cultural items are considered a single request and not competing requests. The RISD Museum is responsible for sending a copy of this notice to the Indian Tribes and Native Hawaiian organizations identified in this notice and to any other consulting parties.

Authority: Native American Graves Protection and Repatriation Act, 25 U.S.C. 3004 and the implementing regulations, 43 CFR 10.9.

Dated: December 18, 2025.
Melanie O'Brien,
Manager, National NAGPRA Program.

[FR Doc. 2026-00068 Filed 1-6-26; 8:45 am]

BILLING CODE 4312-52-P